DEPARTMENT OF TRANSPORTATION

Federal Aviation Administration

14 CFR Part 71

[Docket No. FAA-2022-1445; Airspace Docket No. 21-AWP-55]

RIN 2120-AA66

Modification of Class E Airspace; Visalia Municipal Airport, Visalia, CA

AGENCY: Federal Aviation Administration (FAA), DOT.

ACTION: Final rule.

SUMMARY: This action modifies the Class E airspace designated as a surface area at Visalia Municipal Airport, CA. Additionally, this action modifies the Class E airspace extending upward from 700 feet above the surface at the airport. Furthermore, several administrative modifications were made to update the airport's legal descriptions. These actions will support the safety and management of instrument flight rules (IFR) operations at the airport.

DATES: Effective date 0901 UTC, August 10, 2023. The Director of the Federal Register approves this incorporation by reference under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Keith Adams, Federal Aviation Administration, Western Service Center, Operations Support Group, 2200 S 216th Street, Des Moines, WA 98198; telephone (206) 231-2428.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it modifies the Class E airspace at Visalia Municipal Airport, CA, to support IFR operations at the airport.

History

The FAA published a notice of proposed rulemaking for Docket No. FAA-2022-1445 in the Federal Register (87 FR 76169; December 13, 2022), modifying Class E airspace designated as a surface area, the Class E airspace extending upward from 700 feet above the surface, and the administrative portion of the Class E airspace legal descriptions at Visalia Municipal Airport, CA. Interested parties were invited to participate in this rulemaking effort by submitting written comments on the proposal to the FAA. No comments were received.

Incorporation by Reference

Class E airspace designations are published in paragraphs 6002 and 6005, respectively, of FAA Order JO 7400.11, Airspace Designations and Reporting Points, which is incorporated by reference in 14 CFR 71.1 on an annual basis. This document amends the current version of that order, FAA Order JO 7400.11G, dated August 19, 2022, and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by modifying the Class E airspace designated as surface area at Visalia Municipal Airport, CA. The Class E surface area airspace radius is expanded from a 3.5-mile radius of the airport to a 4-mile radius to properly contain aircraft conducting circling maneuvers. Additionally, the Class E surface area airspace extension northwest of the airport is no longer needed and is removed. The modified lateral boundary of the Class E surface area is sufficient to contain IFR arrival operations while between the surface and 1,000 feet above the surface.

The Class E airspace extending upward from 700 feet above the surface at Visalia Municipal Airport, CA, is also modified. The Class E airspace is reduced from a 5-mile radius to a 4.5-mile radius of the airport as the additional airspace is no longer required. The extensions to the Class E airspace are now described in relation to the airport reference point, as the Visalia very high frequency omnidirectional range (VOR) navigational aid (NAVAID) was decommissioned on March 25, 2022. Furthermore, the existing Class E extensions are modified to properly contain IFR departures until reaching 1,200 feet above the surface. The extension to the southeast of the airport is modified to be within 2.1 miles each side of the airport's 138° bearing extending from the 4.5-mile radius to 6.6 miles southeast of the airport, and the extension to the northwest is modified to be within 1.8 miles each side of the airport's 314° bearing extending from the 4.5-mile radius to 6.6 miles northwest of the airport.

Finally, this action makes several administrative modifications to the airport's legal descriptions. The Visalia VOR NAVAID is removed from the Class E surface area text header and airspace description. It was decommissioned and is no longer needed to describe the airspace. Additionally, the Class E surface area legal description is updated to replace the outdated use of the phrases “Notice to Airmen” and “Airport/Facility Directory.” These phrases are amended to read “Notice to Air Missions” and “Chart Supplement,” respectively, to match the FAA's current nomenclature. Finally, reference to the Swanson Ranch NR1 Airport, CA, is removed from the legal description and text header of the Class E airspace extending upward from 700 feet of the surface, as the airport no longer exists.

Regulatory Notices and Analyses

The FAA has determined that this regulation only involves an established body of technical regulations for which frequent and routine amendments are necessary to keep them operationally current, is non-controversial, and unlikely to result in adverse or negative comments. It therefore: (1) is not a “significant regulatory action” under Executive Order 12866; (2) is not a “significant rule” under DOT regulatory policies and procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant the preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6002 Class E Airspace Areas Designated as a Surface Area.

* * * * *

AWP CA E2 Visalia, CA [Amended]

Visalia Municipal Airport, CA

(Lat. 36°19′07″ N, long. 119°23′34″ W)

That airspace extending upward from the surface within a 4-mile radius of the airport. This Class E airspace area is effective during the specific dates and times established in advance by a Notice to Air Missions. The effective date and time will thereafter be continuously published in the Chart Supplement.

* * * * *

Paragraph 6005 Class E Airspace Areas Extending Upward From 700 Feet or More Above the Surface of the Earth.

* * * * *

AWP CA E5 Visalia, CA [Amended]

Visalia Municipal Airport, CA

(Lat. 36°19′07″ N, long. 119°23′34″ W)

That airspace extending upward from 700 feet above the surface within a 4.5-mile radius of the airport, and within 2.1 miles each side of the 138° bearing from the airport extending from the 4.5-mile radius to 6.6 miles southeast of the airport, and within 1.8 miles each side of the 314° bearing from the 4.5-mile radius to 6.6 miles northwest of the airport.

* * * * *

Issued in Des Moines, Washington, on April 27, 2023.
B.G. Chew,
Group Manager, Operations Support Group, Western Service Center.

[FR Doc. 2023-09370 Filed 5-4-23; 8:45 am]

BILLING CODE 4910-13-P